FEDERAL ELECTION COMMISSION

Sunshine Act Meetings

AGENCY: Federal Election Commission

DATE & TIME: Thursday, May 26, 2016 At 10:00 a.m.

PLACE: 999 E Street NW., Washington, DC (Ninth Floor)

STATUS: This meeting will be open to the public.

Federal Register Notice of Previous Anouncement—81 FR 32753

CHANGE IN THE MEETING: The May 26, 2016 meeting was cancelled.

PERSON TO CONTACT FOR INFORMATION: Judith Ingram, Press Officer, Telephone: (202) 694-1220.

Shelley E. Garr,
Deputy Secretary of the Commission.

[FR Doc. 2016-12820 Filed 5-26-16; 11:15 am]

BILLING CODE 6715-01-P